FEDERAL COMMUNICATIONS COMMISSION

47 CFR Part 64

[CG Docket Nos. 03-123, 08-15; FCC 25-79; FR ID 324556]

Analog Telecommunications Relay Service Modernization

AGENCY: Federal Communications Commission.

ACTION: Proposed rule.

SUMMARY: In this document, the Federal Communications Commission (Commission) proposes to modernize its telecommunications relay services (TRS) rules and seeks comment on phasing out the mandatory status of traditional TTY-based relay services (TTY Relay) under state TRS programs; recognizing additional forms of internet-based TRS, such as internet Protocol Speech-to-Speech (IP STS) and real-time text (RTT)-based relay as compensable forms of TRS; establishing a temporary, national certification process for analog relay providers and user registration and verification requirements; and updating or eliminating obsolete rules to all forms of TRS. Through these proposals, the Commission aims to align TRS with today's communications landscape, better serve the needs of relay users, ensure the continued availability of TRS through the transition from legacy communications network, to modern, IP-based networks, and continue to protect the integrity of the TRS program through the prevention of waste, fraud, and abuse.

DATES: Comments are due on or before February 2, 2026. Reply comments are due on or before March 3, 2026.

ADDRESSES: Pursuant to §§ 1.415 and 1.419 of the Commission's rules, 47 CFR 1.415, 1.419, interested parties may file comments and reply comments. Comments may be filed using ECFS. You may submit comments, identified by CG Docket No. 03-123, by the following method:

• Electronic Filers. Comments may be filed electronically using the internet by accessing the ECFS: https://www.fcc.gov/ecfs.

• Paper Filers. Parties who choose to file by paper must file an original and one copy of each filing.

• Filings can be sent by hand or messenger delivery, by commercial courier, or by the U.S. Postal Service. All filings must be addressed to the Secretary, Federal Communications Commission.

• Hand-delivered or messenger-delivered paper filings for the Commission's Secretary are accepted between 8:00 a.m. and 4:00 p.m. by the FCC's mailing contractor at 9050 Junction Drive, Annapolis Junction, MD 20701. All hand deliveries must be held together with rubber bands or fasteners. Any envelopes and boxes must be disposed of before entering the building.

• Commercial courier deliveries (any deliveries not by the U.S. Postal Service) must be sent to 9050 Junction Drive, Annapolis Junction, MD 20701. Filings sent by U.S. Postal Service First-Class Mail, Priority Mail, and Priority Mail Express must be sent to 45 L Street NE, Washington, DC 20554.

• People with Disabilities. To request materials in accessible formats for people with disabilities (Braille, large print, electronic files, audio format), send an email to fcc504@fcc.gov or call the Consumer and Governmental Affairs Bureau at (202) 418-0530.

FOR FURTHER INFORMATION CONTACT: Joshua Mendelsohn, Disability Rights Office, Consumer and Governmental Affairs Bureau, at 202-559-7304, or Joshua.Mendelsohn@fcc.gov.

SUPPLEMENTARY INFORMATION: This is a summary of the Commission's Notice of Proposed Rulemaking (NPRM), in CG Docket Nos. 03-123 and 08-15, FCC 25-79, adopted on November 20, 2025, and released on November 21, 2025,. The full text of this document can be accessed electronically via the Commission's Electronic Document Manage System website at https://docs.fcc.gov/public/attachments/FCC-25-79A1.pdf, or via the Commission's Electronic Comment Filing System (ECFS) website at https://www.fcc.gov/ecfs.

Ex Parte Rules. This proceeding shall be treated as a permit-but-disclose proceeding in accordance with the Commission's ex parte rules. 47 CFR 1.1200 et seq. Persons making ex parte presentations must file a copy of any written presentation or a memorandum summarizing any oral presentation within two business days after the presentation (unless a different deadline applicable to the Sunshine period applies). Persons making oral ex parte presentations are reminded that memoranda summarizing the presentation must (1) list all persons attending or otherwise participating in the meeting at which the ex parte presentation was made, and (2) summarize all data presented and arguments made during the presentation. If the presentation consisted in whole or in part of the presentation of data or arguments already reflected in the presenter's written comments, memoranda, or other filings in the proceeding, the presenter may provide citations to such data or arguments in his or her prior comments, memoranda, or other filings (specifying the relevant page and/or paragraph numbers where such data or arguments can be found) in lieu of summarizing them in the memorandum. Documents shown or given to Commission staff during ex parte meetings are deemed to be written ex parte presentations and must be filed consistent with § 1.1206(b) of the Commission's rules. In proceedings governed by § 1.49(f) of the Commission's rules or for which the Commission has made available a method of electronic filing, written ex parte presentations and memoranda summarizing oral ex parte presentations, and all attachments thereto, must be filed through the electronic comment filing system available for that proceeding, and must be filed in their native format (e.g., .doc, .xml, .ppt, searchable .pdf). Participants in this proceeding should familiarize themselves with the Commission's ex parte rules.

Providing Accountability Through Transparency Act. The Providing Accountability Through Transparency Act, Public Law 118-9, requires each agency, in providing notice of a rulemaking, to post online a brief plain-language summary of the proposed rule. The required summary of the Notice is available at https://www.fcc.gov/proposed-rulemakings.

Paperwork Reduction Act. The NPRM may contain proposed new or modified information collection requirements. The Commission, as part of its continuing effort to reduce paperwork burdens, invites the general public and the Office of Management and Budget (OMB) to comment on the information collection requirements contained in the NPRM, as required by the Paperwork Reduction Act of 1995, Public Law 104-13. In addition, pursuant to the Small Business Paperwork Relief Act of 2002, Public Law 107-198, see 44 U.S.C. 3506(c)(4), the Commission seeks specific comment on how it might further reduce the information collection burden for small business concerns with fewer than 25 employees.

Synopsis

1. Title IV of the Americans with Disabilities Act of 1990 (ADA), which added section 225 to the Communications Act of 1934, as amended (the Act), directs the Commission to ensure that TRS are available, to the extent possible and in the most efficient manner, to individuals with hearing or speech disabilities in the United States.

2. The Act requires common carriers provide TRS throughout the areas in which they offer service. The Act directs the Commission to adopt, administer, and enforce regulations governing the provision of interstate and intrastate TRS. Section 225 of the Act also authorizes, but does not require, states to establish their own TRS programs, subject to Commission approval and certification. In states with certified TRS programs, carriers may fulfill their obligation to provide intrastate TRS by participating in the state program. If a state does not have a Commission-certified TRS program, the provision of intrastate TRS in that state falls under the direct supervision of the Commission. All 50 states, the District of Columbia, and several U.S. territories have FCC-approved TRS programs. The analog TRS providers provide the relay services for intrastate, interstate, and international calls. They seek reimbursement for intrastate analog TRS calls from the relevant state program and seek reimbursement for interstate and international calls from the Interstate TRS Fund. Currently, the Commission recognizes six forms of TRS, three analog services and three internet-based services. The three analog forms of TRS are TTY Relay, Speech-to-Speech relay service (STS), and Captioned Telephone Service (CTS).

3. Section 225 of the Act provides that, generally, costs attributed to interstate TRS are to be recovered from all subscribers for every interstate service, while costs for intrastate TRS are recovered from the intrastate jurisdiction. Each state is responsible for determining how to fund the provision of intrastate TRS through the state's TRS program. The interstate costs of analog TRS are recovered through the FCC-administered TRS Fund, and the Commission is responsible for determining how providers of interstate TRS shall be compensated. Since 2007, compensation rates for interstate calls using analog services have been determined by applying the Multi-State Average Rate Structure (MARS) methodology, which does not require a calculation of costs or demand for these specific services.

4. As communications technologies continue to evolve, the TRS landscape is undergoing significant transformations, necessitating a re-evaluation of current rules to ensure continued functional equivalence and efficiency. These developments include a decline in the use of analog relay services, the emergence of advanced internet-based solutions, and the integration of accessible communications functionalities into smart devices.

5. In August 2024, National Association for State Relay Administration (NASRA) members, Gallaudet University, and TDIforAccess (TDI) submitted to the Commission a White Paper asserting that the decline in usage of analog TRS, coupled with the accelerating transition from traditional analog to IP-based networks, makes it urgent for federal and state policymakers to proactively adapt TRS obligations and programs to reflect the evolution to IP-based networks.

TTY Relay

6. Under section 225 of the Act, states are permitted, but not required, to establish their own TRS programs. The provision of interstate relay services offered through state TRS programs is supported by the Interstate TRS Fund. State TRS programs must offer TTY Relay and STS.

7. TTY is widely acknowledged to be an outdated technology. Over time, the use of TTY Relay has declined greatly, reflecting a shift towards internet-based TRS solutions. Annual intrastate usage of TTY Relay totals less than 2 million minutes with many jurisdictions reporting less than 1,000 minutes in 2024. As communication networks modernize and usage declines, state relay programs are seeking guidance from the Commission regarding the appropriate steps and processes for phasing out TTY Relay.

8. Given the ongoing technology transition to IP-based networks, and the obsolescence of TTY Relay, the Commission seek comment on terminating the mandatory status of TTY Relay for state-based TRS programs. The Commission believes this would allow states to adapt their programs to local needs and technological realities, rather than being burdened by the costs and administrative complexities of maintaining a service with greatly diminished demand. What are the administrative and financial implications for state programs if TTY Relay is no longer mandatory? How would terminating the mandatory status of TTY Relay impact state programs' ability to continue supporting other essential relay services?

9. The Commission believes that terminating the mandatory status of TTY Relay is consistent with the Commission's statutory obligations under section 225 of the Act. The Commission seeks comment on this belief. As discussed below, the Commission believes a number of alternative services will be available to ensure that functionally equivalent communication is available to the remaining users of TTY Relay, in those states that choose to terminate the availability of this service through the state TRS program. For example, IP Relay has long been available to any user with broadband access. In addition, the Commission encourages state programs to offer RTT-based relay service in place of TTY Relay, to the extent that governing state legislation permits support for such a service through the state TRS program. The Commission also seeks comment on whether to provide TRS Fund support for a nationwide RTT-based relay service. Further, as a transitional step, to ensure that text-based relay service continues to be available to any user that does not yet have access to an IP-based alternative, the Commission seeks comment on whether to authorize the temporary certification of a national provider of TTY Relay, which would be available in any state where TTY Relay is no longer available through a state TRS program.

10. The Commission also seeks comment on whether ending the mandate that state TRS programs support TTY Relay, but temporarily certifying a national provider, will help the Commission achieve its statutory goals by ensuring that TRS are available “in the most efficient manner.” Does allowing state TRS programs to discontinue TTY relay relieve analog TRS providers from incurring unnecessary costs? Will it allow analog TRS providers the ability to reallocate funds and other resources to more efficient technology? Will intrastate or interstate TRS Fund contributors experience any cost savings? What are the costs and benefits to state TRS programs discontinuing TTY Relay? What would be the costs and benefits to continue requiring state TRS program to support TTY Relay? The Commission also seeks comment on whether ending the mandate to support TTY Relay will further the Act's directive that TRS regulations encourage the use of existing technology and do not discourage or impair the development of improved technology. Will these actions help transition TTY Relay providers and their remaining users from entirely text-based relay over the public switched telephone network (PSTN) to multimedia offerings that make full use of the internet's capabilities to leverage new technologies to meet user needs? Are there other approaches the Commission should consider to ensure a smooth transition from TTY Relay to IP-based alternatives?

11. The Commission seeks comment on whether terminating the mandatory status of TTY Relay is consistent with the obligation of common carriers under section 225(c) of the Act to provide telecommunications relay services “in compliance with the [Commission's] regulations” throughout the area in which they offer service. Under section 225 of the Act, the Commission has the same oversight and authority with respect to ensuring the availability and provision of both intrastate and interstate TRS. Pursuant to this authority, the Commission is directed to set the requirements for ensuring the provision of TRS and for certifying state programs. Further, the Commission determined that TRS were not limited to TTY Relay, and set guidelines for whether a particular type of TRS must be included within a state TRS program. The Commission believes a common carrier remains compliant with its obligation to offer TRS so long as its interstate TRS offerings align both with the Commission's TRS rules and, where applicable, a state TRS program certified under the Commission's rules. The Commission believes section 225 of the Act does not mandate a particular form of TRS be provided and affords the Commission the ability to re-align its rules around changes in technology, including the ability to wind down forms of TRS that are technologically obsolete. The Commission seeks comment on this belief.

12. Although TTY Relay usage is diminishing, some people with speech or hearing disabilities still rely on TTY devices. Such individuals should not be left without an effective means of telephone communication. The Commission seeks comment on how TTY Relay users can be most effectively and efficiently transitioned to productive alternatives.

13. To better understand the transitioning landscape, the Commission seeks comment on the total number of users of TTY Relay, including users of voice carryover and hearing carryover (in particular states or in the nation as a whole), as well as any available data on user location, availability of reliable broadband internet access, and the extent to which TTY Relay users are utilizing wired or mobile wireless devices to connect. The Commission also solicits any available data on TTY Relay user demographic information, such as age and income, to further the Commission's understanding of the users being impacted by this transition. The Commission also seeks comment on the extent to which TTY services are provided without support from state or federal programs for direct communication with TTY users. Would terminating the mandatory status of TTY Relay affect the ability to provide the service on a privately funded basis?

14. The Commission also seeks comment on the prevalence of state equipment distribution programs (EDPs) or assistive technology (AT) programs for people with disabilities. How many states currently have EDPs? AT programs? What equipment is provided under these programs? How is eligibility for those programs determined? How many programs have adopted income limits, fiscal caps, or have any other restrictions on access? To what extent are those programs connected to state TRS programs? Would changes to the services state TRS programs are required to provide have an effect on the programs?

15. The Commission seeks comment on the extent to which IP Relay can serve as a comprehensive alternative for current TTY Relay users and what, if any, additional steps the Commission should take to facilitate this transition. Does the requirement for users to have an IP-enabled device and broadband internet access service present a barrier to its use by some current TTY Relay users? Are IP Relay providers ensuring direct communications between IP Relay users? What types of barriers are TTY Relay users most likely to experience? Are there steps the Commission could take to mitigate such barriers?

16. RTT communications are able to be converted to be read on TTY devices and messages sent via TTY devices can be read on devices supporting RTT. Given the availability of RTT on mobile devices and the suitability of RTT for transmitting text on IP networks, the Commission believes that many TTY Relay users are currently using RTT, rather than a TTY device, to initiate or answer TTY Relay calls. If an individual initiates such a call using RTT to dial 711, the call may be converted to the TTY format for communication with a CA. Where an end-to-end RTT link is possible, a conversion to the TTY format is technically unnecessary and likely to provide a less reliable text-based communication channel to the TTY Relay user. The Commission seeks comment on the extent to which such conversion is occurring, and why. For example, are there network concerns where the conversion to the TTY-based format is outside the control of the TTY Relay providers who would accept RTT communications if the format was retained when the call reached their call center? Are there economic concerns that hinder state programs from supporting or TTY Relay providers from installing the capability to handle RTT calls in TTY Relay call centers? Or are there legal considerations, e.g., a concern that if the link between user and CA is IP from end to end, the call might not qualify for financial support by the state TRS program or the TRS Fund? Are there other technological or administrative concerns that are inhibiting the transition to end-to-end RTT?

17. The Commission believes that nothing in the Act restricts state programs from offering intrastate, RTT-based relay service. Indeed, section 225 of the Act expressly authorizes states to establish programs for the provision of intrastate TRS, subject only to Commission approval. The only conditions required for such approval are that the program (1) makes intrastate TRS available to eligible individuals in accordance with the Commission's regulations, and (2) provides adequate procedures and remedies for enforcing the program's requirements. In light of this explicit statutory authorization, the Commission has previously determined that states are not precluded from funding and administering VRS, IP Relay, or IP CTS, should they choose to do so. The Commission seeks comment on this belief and analysis.

18. The Commission also seeks comment on whether a RTT-based relay service would provide a useful alternative to TTY Relay. The Commission assumes that such a service would operate similarly to TTY Relay, in that the CA would voice the TRS user's typed text to a hearing party and type the hearing party's speech back to the TRS user. In addition, the Commission assumes that, at least initially, a user would initiate a RTT-based relay call in the same way as TTY Relay—by dialing 711 to connect with a CA. The main difference would be that the link between the texting user and the CA would be carried entirely as an IP format, using the RTT protocol. Are these assumptions correct or are there more efficient RTT-based relay service implementations currently operating?

19. Should the Commission amend its rules to expressly authorize compensation from the TRS Fund for the interstate use of RTT-based relay service? What are the costs and benefits of making an RTT-based relay service available as a replacement for TTY Relay? Would the availability of an RTT-based relay service be more beneficial than IP Relay for some current TTY Relay users—and if so, in what specific ways? For example, would it be easier for TTY Relay users to transition to an RTT-based service than to IP Relay, and if so, in what respects? How would the two types of services compare in their handling of emergency 911 calls? Would there be significant cost differences between IP Relay and RTT-based relay service?

20. The Commission also seeks comment on whether an RTT-based relay service could be modified to enable callers to initiate a TRS call without dialing 711, allowing the user to make and receive direct dialed calls. How could such call initiation methods be implemented, and how would their introduction affect the cost-benefit comparison with IP Relay? Further, how does the availability of text-to-speech software on RTT calls affect the need to connect to a CA and utilize relay? Is ASR technology similarly available for RTT calls? Where a consumer can place an end-to-end RTT call does the ability to communicate via text, voice, text-to-speech software, and ASR alleviate the need to involve a CA to relay the call?

21. Would all state TRS programs be able and willing to support RTT-based relay service for intrastate communications? Are there obstacles that would prevent state programs from supporting RTT-based relay? If some states are not able to support RTT-based relay, should the Commission establish a nationwide form of RTT-based relay service that would be solely supported by the Interstate TRS Fund, and available in any state that does not maintain a TRS program offering such a service? Or is the availability of IP Relay—as well as the availability of text-to-speech software on smartphones or other devices—sufficient to ensure access to text-to-voice communication, so that the Commission does not need to establish new forms of text-based relay service to ensure functionally equivalent access to the voice communication services?

22. While RTT has largely replaced TTY on wireless networks, its utility as a direct substitute for TTYs on wireline voice networks is currently limited as it is not natively available on wireline devices. The Commission has previously acknowledged the importance of continued exploration into wireline RTT as an alternative to TTY technology to achieve a universal, integrated text solution for voice services. The Commission seeks comment on furthering the availability of RTT across IP networks, services, and equipment. Should the Commission extend the TTY support exemption, which allows voice communications services provided over wireless IP facilities and equipment to support RTT, in lieu of continuing to provide TTY connectability and TTY signal compatibility, to include interconnected and non-interconnected VoIP services provided over wired IP facilities and equipment, if such services and equipment support RTT? How else should the Commission encourage wireline providers to support RTT? The Commission also solicits comments on the necessary technical guidance and cost expectations for wireline RTT implementation.

23. What would be an appropriate timeline to transition from TTY to RTT given the current state of RTT deployment? What additional steps, if any, would assist in replacing TTY with RTT? Are providers encountering difficulty working with telecommunications carriers to deploy RTT? Are there additional actions the Commission should take to encourage the development and deployment of RTT?

24. Direct Video Calling (DVC) is video teleconferencing that allows conversations to occur between two callers using American Sign Language (ASL), without the need for translation services. DVC services are provided to customer call centers as a direct ASL-to-ASL communication alternative to direct text-based communications such as TTY-to-TTY calls, and also can be used as an alternative to relay service. The Commission seeks comment on the extent to which DVC can serve as a direct communication alternative to TTY-to-TTY communications when the parties at both ends of the call use ASL—and what, if any, additional steps the Commission should take to facilitate this transition. Does the requirement for users to have an IP-enabled device and broadband internet access service present a barrier to its use by some current TTY users? What types of barriers are TTY users most likely to experience? Are there steps the Commission could take to mitigate such barriers? Is the adoption of DVC widespread among businesses? Government entities? Should the Commission take additional actions to encourage the use of DVC?

25. Some state TRS programs or related state agencies have begun supporting Communication Facilitator services to provide communication access for individuals who are deafblind. During a video call, a Communication Facilitator copies sign language from the other video caller and provides visual information to the individual who is deafblind through in-person close-vision, tactile sign language, tracking, or another communication method. The Commission seek comments on the extent to which Communication Facilitator services can serve as an alternative to TTY Relay or direct TTY-to-TTY communications for individuals who are deafblind using braille devices and what, if any, additional steps the Commission should take to facilitate this transition. Are Communication Facilitator services only used with video communications requiring the users to have an IP-enabled device and broadband internet access service? If so, does this requirement present a barrier for TTY users who use braille? What types of barriers are TTY users using braille most likely to experience? Are there steps the Commission could take to mitigate such barriers? How many states currently offer Communication Facilitator services? What are the costs and benefits to offering such services? What steps have states taken to identify and provide outreach to individuals who are deafblind about such services? How many hours per day and days per week are these services available from states that offer them?

26. To ensure that TTY Relay is used appropriately and efficiently, and to safeguard the TRS Fund from waste, fraud, and abuse, the Commission seeks comment below on applying user eligibility, registration, verification, and call detail records requirements to all forms of TRS—measures that have proven effective in safeguarding other TRS programs. The Commission seeks comment on the specific processes for TTY Relay user registration and verification, including the type of documentation or assessment required to confirm eligibility and how to balance ease of access for legitimate users with robust protections against misuse. Are providers able to verify the identity of TTY Relay users at the beginning of calls? Would user registration requirements unduly burden state TRS programs in their support and oversight of intrastate TRS?

Captioned Telephone Service

27. As the telecommunications infrastructure continues its transition from analog systems to IP-based networks, the usage of analog CTS has steadily declined. Analog CTS services are administered at the state level, with states typically contracting with a single provider. While most state TRS programs support CTS, the Commission does not mandate support for CTS. In the absence of a mandate, many states have chosen to wind down and discontinue their analog CTS services, in response to declining demand. As other state TRS programs consider whether to continue supporting CTS, the Commission believes it is beneficial to provide oversight and guidance to ensure users are able to successfully transition to alternative solutions.

28. One prominent alternative to analog CTS is IP CTS. IP CTS is administered by the Commission and supports multiple national providers. Technological advancements have significantly modernized IP CTS, particularly through the integration of ASR technology. The viability of IP CTS as a direct alternative to analog CTS has been demonstrated in practice, underscoring its effectiveness as a modern solution.

29. As the telecommunications landscape continues to evolve, smart devices and applications are increasingly incorporating ASR functionalities. The Commission seeks comment on the extent to which ASR functionalities on smart devices are comparable in quality and speed of captions currently offered through Fund-supported IP CTS providers and whether such services present a viable and efficient alternative for users transitioning from analog CTS. Does the direct availability of captions with ASR on smart devices and applications for use by hearing individuals to communicate using voice communication services suggest a separate relay service is unnecessary? Are current users of analog CTS likely to own smart devices? Does every smart device on the market support this technology? Are older smart devices used by consumers capable of supporting ASR captioning? Are all smart devices capable of offering consumers ASR captions on both voice and video calls? What are the costs for consumers to obtain such equipment? How difficult or easy is it for end users to use ASR on smart devices? Are seniors who age into hearing loss likely to be able to use the smart device with ASR and does that ability change as someone ages into their 80s and 90s? Do smart device and application providers who offer ASR captioning permit users to restrict access to the captioning to protect their privacy? Is customer or technical support available for users experiencing problems receiving captions? Do smart device and application providers track the availability and performance of the captions?

30. Should the Commission take any steps to ensure that such communications service providers and equipment manufacturers are providing access to captions under separate statutory authority granted to the Commission, such as the Commission's authority to ensure telecommunications services and advanced communications services are accessible to and usable by individuals with disabilities? Are obligations or performance objectives for ensuring such ASR captions are accessible to and usable by people with disabilities necessary? Are relevant TRS minimum standards (e.g., outage reporting requirements specific to ASR, redundancy requirements, annual reports attesting to the current IP CTS minimum standards, annual complaint reports specific to the captioning solutions being offered on the smart devices, etc.) reasonable standards to impose for ensuring native captions are accessible and usable? If such standards are needed, should the communications service provider or the equipment manufacturer be subject to the new standards? Does any separate statutory authority give the Commission jurisdiction to impose on communications service providers and equipment manufacturers the minimum standards it imposes on authorized TRS service providers?

31. The transition to IP-based services, including IP CTS and technologies using ASR, requires internet access and IP-based specialized equipment which may not be universally available. To help transition these users the Commission solicits comments on the feasibility of and burden to state relay programs, telecommunications carriers, and VoIP providers offering appropriate devices to users who wish to transition from CTS to an alternate service but may require new equipment due to network changes or device obsolescence. Are there lessons state programs that have discontinued analog CTS support have learned that may be useful to the Commission and users during the transition to an alternate service?

32. To ensure that CTS is used appropriately and efficiently, and to safeguard the TRS Fund from waste, fraud, and abuse, the Commission seeks comment below on applying user eligibility, registration, verification and call detail records requirements to all forms of TRS. The Commission seeks comment on the specific processes for CTS user registration and verification, including the type of documentation or assessment required to confirm eligibility and how to balance ease of access for legitimate users with robust protections against misuse.

Speech-to-Speech Relay Service

33. In authorizing the provision of STS in March 2000, the Commission determined that all certified state TRS programs must offer STS. STS demand is consistent, with annual usage less than 400,000 minutes. However, unlike TTY Relay and CTS, STS usage has not declined substantially over time. The emergence of IP-based solutions has offered new avenues for people with speech disabilities to access communications services.

34. In 2011, a non-profit organization asked the Commission to open a proceeding on modernizing STS to incorporate IP video technologies. With video-assisted STS, the CA would watch the user's face and any available seen body parts or indicators to add meaning that is translatable by the CA into clear speech that can be voiced to the person called. This concept, referred to as video-assisted Speech-to-Speech (VA-STS), was noted in the Commission's 2013 IP STS Order, published at 78 FR 49693, August 15, 2013, which recognized that it was already being offered in several states. The Commission continues to believe that such an internet-based, video-assisted form of STS holds significant potential to enhance functional equivalence for individuals with severe speech disabilities. The Commission seeks comment on this belief.

35. Recognizing the significant technological advancements since the 2013 IP STS Order, the Commission proposes to authorize IP STS as a compensable form of TRS. This proposal includes video-assisted STS as an integrated or add-on component to IP STS, rather than a standalone service. The Commission believes the service would likely be app or web-based to distinguish it from analog STS, which already permits users to make calls from interconnected VoIP services using internet-enabled devices. This approach aims to leverage the benefits of IP technology, such as enhanced call privacy, improved real-time quality and efficiency, and greater service reliability, which are increasingly realized through automation and over-the-top apps. The Commission seeks comment on this proposal.

36. The Commission also seeks comment on whether authorizing such a service, with its inherent flexibility and potential for a wider range of communication modes, will significantly advance the statutory goal of functional equivalence for individuals with speech disabilities. How would this structure best integrate with existing TRS frameworks? Should IP STS providers be directly certified by the Commission and compensated entirely through the Interstate TRS Fund similar to other IP-based forms of TRS? Should IP STS calls directly connect to a call center allowing users to make and receive direct dialed calls? Are state TRS programs currently supporting and compensating a form of STS similar to this IP STS proposal? Are they supporting and compensating video-assisted STS? If so, do STS providers submit compensation claims for interstate STS minutes for IP STS or video-assisted STS? What are the specific benefits or challenges of positioning video-assisted STS as an add-on rather than a separate service or as part of the cost of providing IP STS? Should IP STS include or support the option for users to access and use ASR engines for non-standard or atypical speech? Is such technology already being made available in smart devices and applications for use within voice communication services, independent of TRS support?

37. To ensure efficient allocation of resources and effective program development, the Commission seeks comment on effective methodologies for assessing the potential demand for new IP STS and video-assisted STS offerings. How can the Commission best identify and reach the segments of the community of people with speech disabilities who would benefit from these services? What data collection mechanisms or surveys would provide reliable estimates of demand and user preferences for IP STS and its features? In considering the potential demand should the Commission distinguish between individuals likely to use the service and individuals who could use the service but may prefer to sign or text first?

38. The Commission does not propose to alter the mandatory status of the analog version of STS at this time. STS remains a mandatory service that all states with a certified state TRS program must offer. Currently, STS is provided only through state-certified relay service programs and has no internet-based, FCC-certified equivalent. This means that users of STS presently have limited alternatives to transition to if their state were to terminate the provision of analog STS. However, the Commission may revisit the mandatory status of analog STS and its provision at such time as IP STS or other suitable IP-based solutions are sufficiently developed and widely available, and the Commission can offer a seamless transition for users from analog STS to IP-based alternatives. Are state programs able to maintain STS as a mandatory service if the Commission moves forward with the proposal to terminate the mandatory status of TTY Relay? Are there challenges associated with maintaining the mandatory status of STS but not TTY Relay?

39. To ensure the quality and accountability of IP STS, the Commission proposes that certification requirements for IP STS providers should be comparable to those established for other internet-based TRS services, such as VRS, IP Relay, and IP CTS. Specifically, applicants would be required to submit detailed plans for service provision, explanations of how they will comply with all relevant technical and operational standards, and descriptions of mechanisms for preventing misuse. The Commission seeks comment on whether additional certification requirements should be established for IP STS providers. Should any particular technical capabilities be prerequisites for certification? Which existing certification requirements, if any, should not be applicable to IP STS?

40. The introduction of IP STS necessitates a reevaluation and refinement of existing mandatory minimum standards for STS to ensure they remain relevant and effective. Current STS rules address aspects such as CA competency and adherence to confidentiality, but some provisions, like those relating to only TTY Relay or VRS, would not be applicable. Should any of the existing mandatory minimum standards not be applied to the provision of IP STS? The Commission requests that commenters who identify such rules, explain the incompatibility and propose changes to the rule to appropriately limit the scope of the rule. Are there other standards unique to the provision of IP STS that the Commission should consider adding?

41. STS CAs require specialized training to understand and repeat the words of individuals with diverse speech patterns. To enhance the quality and efficiency of STS, providers currently allow STS users to set up and utilize profiles or preferences to facilitate call connections. The Commission seeks comment on the feasibility and benefits of implementing caller profiles for IP STS, including the types of information that would be necessary for effective routing, and the safeguards required to protect user privacy and prevent any misuse of user information. Should users be able to identify preferences related to the user's unique speech characteristics? Would providing such preferences enable a user with a particular speech disability to have their calls routed to CAs or ASR engines specifically trained to understand that type of speech? The Commission also seeks comment on how specialized CAs and ASR engine training for IP STS, particularly for handling atypical speech patterns or utilizing new technologies, should be defined and supported.

42. The Commission currently requires STS providers to offer the user the option of having their voice muted so that the other party to the call would only hear the STS CA re-voicing the call, and not also the voice of the STS user. This feature serves to minimize disruption to the conversational flow and potentially enhance the privacy and comfort of the STS user. Should the Commission similarly require IP STS providers to offer a muting option to users, allowing them to control whether their own voice is transmitted to the called party? The Commission seeks comment on providers' experience with the muting feature in analog STS, as well as any technical issues regarding its implementation in an IP environment, its impact on call flow and functional equivalence, and any other benefits or challenges it may present for IP STS users.

43. To ensure that IP STS are used appropriately and efficiently, and to safeguard the TRS Fund from waste, fraud, and abuse, the Commission proposes to apply user eligibility, registration, and verification requirements similar to those already in place for IP Relay, VRS, and IP CTS. This would include requiring users to register with a certified provider and undergo a verification process to confirm their identify and location, as well as to certify eligibility as individuals with speech disabilities who require the service for functionally equivalent communication. The Commission seeks comment on the specific processes for IP STS user registration and verification, including the type of documentation or assessment required to confirm eligibility and how to balance ease of access for legitimate users with robust protections against misuse.

44. The Commission believes IP STS providers should be subject to the same data submission requirements applicable to all TRS providers, which are designed to ensure effective oversight, fund administration, and accountability, and to enable the determination of a TRS Fund budget for each service, as well as the determination of provider compensation rates. Later in the NPRM, the Commission seeks comment on whether any modifications to the Commission's call data requirements are needed to ensure collection of appropriate data for this service and avoid unnecessary data collection.

45. A perceived challenge for STS has been the low awareness and resulting flat usage among its potential user base. Due to concerns that potential STS users were not aware of the service's availability, the Commission in 2007 added a specific per-minute amount of $1.131 to the STS compensation rate, specifically for outreach purposes. This additional funding was intended to promote STS to potential users and required providers to file annual reports detailing their specific outreach efforts attributable to this support.

46. Despite the TRS Fund support for outreach by providers, STS usage remains flat and low in comparison to the number of people with speech disabilities. The availability of IP STS and the possibility of nationwide video-assisted STS may present a new opportunity to inform the public and potential users about the availability of these services. What steps should the Commission take to ensure effective outreach concerning IP STS and video-assisted STS? The Commission seeks comment and data, especially from STS providers and state TRS programs, on the effectiveness over the last 25 years of outreach to potential STS users. How many individuals are using STS? What methods have providers used to market the service or provide outreach to potential users? Are there places, resources, or communities that are or could be targeted to reach people with speech disabilities who would benefit from learning about STS? To what extent have state TRS programs or STS providers conducted outreach to those places? Have STS providers developed outreach plans for STS? If not, why not? If so, the Commission requests information about the details of those plans, and comments on their strengths and weaknesses. Do providers work with organizations for people with speech disabilities to conduct outreach? How broad is the reach of those organizations?

47. If the Commission continues to provide an outreach additive or other additional outreach support and resources for STS, how should the Commission measure the effectiveness of such outreach efforts? Should the Commission consider such an additive for IP STS? Alternatively, is the low adoption rate for STS services not indicative of a lack or outreach and awareness, but rather a preference amongst individuals with speech disabilities for text or sign language communications through other forms of TRS and advance communication services? Do some individuals with speech disabilities prefer alternative services such as online messaging and chat tools or the use of other assistive technology, such as augmentative and alternative communication (AAC) devices? Do individuals with speech disabilities who are fluent in sign language prefer to use VRS or other video-based forms of communication? If STS usage is a matter of preference rather than outreach should the Commission discontinue the outreach additive? What are the potential costs and benefits to discontinuing the additive?

Transitioning Analog Relay Users to Alternatives

48. There may be some analog TRS users who, for various reasons, cannot successfully transition to IP-based telephony solutions without additional assistance. The Commission seeks comment on the number of such individuals, the reasons they are unable to transition, and what means are available to ensure that such individuals remain able to communicate after the retirement of the copper facilities serving them. For example, are subsidies available at the state or federal level to ensure that analog TRS users who cannot otherwise afford to subscribe to internet access service are able to transition to a VoIP line or other IP-based communications channel?

49. In a similar vein, the Commission solicit comments on whether there are specific roles that state relay programs and communication service providers should fulfill to assist users who wish to transition to an alternate TRS service (e.g., IP CTS, IP Relay, or RTT-based relay service) but may require new communication services or equipment due to network changes or device obsolescence. How can consumers be informed of prerequisite service or equipment changes and how to obtain them? What options are available for coordination among interested parties for ensuring that analog TRS users who need it receive additional assistance? Are services obtained through universal service programs and equipment obtained through equipment distribution programs sufficiently compatible for the equipment to be used with the relevant services? Can those services and equipment be used with TRS and TRS equipment?

50. The Commission also seeks comment on the availability and feasibility of peripheral devices and specialized customer premises equipment that support captioned phone service or RTT and could be utilized for calls with VoIP services. Are VoIP services and RTT usable on the same device (e.g. smartphone, tablet, or laptop) by people with disabilities? Are there devices that support RTT and are able to connect to VoIP service devices, particularly VoIP devices without a screen for viewing text? What are the costs for developing such equipment? What are the costs to consumers to obtain such equipment? The Commission also seeks comment on how incurring these transitional costs would compare to the long-term savings associated with retiring obsolete hardware and software linked to analog networks, and whether the cost of these efforts should be compensable from the TRS Fund.

51. Beyond the technological alternatives, the Commission recognizes the benefit of a structured transition process to ensure that all individuals with hearing and speech disabilities maintain access to relay services as analog telecommunications networks transition to IP-based services. To ensure that no analog relay user is left without usable TRS during this network evolution, the Commission seeks comment on developing outreach and transition plans for affected users in coordination with state TRS relay programs, analog TRS providers, and communication service providers. Are state TRS programs able to coordinate with the Commission on such an initiative? Are state TRS programs better positioned to lead on plan development and outreach? If so, how should the Commission support such outreach and plan development? To what extent have state TRS programs and analog relay service providers begun to establish such plans? What is an appropriate timeline for the development and implementation of such plans and outreach? What role can and should communication service providers, whose users rely on analog TRS, perform in the outreach and transition process? Are there other state programs, such as telecommunications equipment distribution programs, or state agencies, separate from TRS programs that the Commission should coordinate with? Should the Commission coordinate with relevant agencies independently or in connection with membership associations, such as NASRA and the Telecommunications Equipment Distribution Program Association (TEDPA)? Should the Commission coordinate with trade associations whose members include communication services providers? If a state is considering discontinuing its state TRS program, what role should the Commission fulfill in that transition?

52. The Commission also seeks comment on any barriers to coordination. To what extent are analog TRS providers limited in the information they are able to share with state TRS programs and the Commission for conducting outreach, while continuing to protect the privacy of customer information? What steps can the Commission take to allow state TRS programs access to more detailed information about individual analog TRS users? If necessary, how could the Commission ensure that such consumers are notified about the potential sharing with and use of personally identifiable information by state TRS programs? Could analog TRS providers provide this notification? Could communication service providers provide this notification? If notification can be provided, should the Commission permit consumers to opt-out of sharing such information? How should the Commission ensure such notifications are accessible?

Other Analog Relay Issues

53. Where a form of TRS is not offered in state TRS programs, the Commission may adopt reasonable measures to ensure equitably distributed contributions from all interstate and intrastate service providers subject to the Commission's authority under sections 225 and 715 of the Act. However, states are not precluded from funding and administering any form of intrastate TRS, including internet-based TRS. As users of TTY Relay, CTS, and STS transition to internet-based options, the Commission seeks comment on the extent to which States plan to continue supporting any forms of TRS, once the telephone network has fully transitioned from analog to IP technology. For example, assuming that the Commission affirms the eligibility of RTT-based relay service and IP STS for TRS Fund compensation, are states likely to support those forms of TRS? How does the broader ongoing transition towards an all-IP communication network impact state decision making? For states that pursue the provision of internet-based forms of TRS, how should the Commission ensure the appropriate separation of costs?

54. Some states, leveraging their intrastate TRS funds, have expanded their offerings beyond analog TRS services to address the evolving communication needs of their residents. Many states operate telecommunications equipment programs, often supported by their intrastate TRS funds. Beyond these, states have pursued other specialized services and initiatives funded from their intrastate TRS funds. Missouri, for instance, added Relay Conference Captioning (RCC) service, a real-time captioning solution designed specifically for conference calls and group meetings, which it funds from its intrastate Relay Missouri Fund. Although the Commission does not mandate them, it has encouraged states to offer non-shared language TRS, noting that states can permissibly exceed federal mandatory minimum standards to meet the unique needs of their diverse populations. Two states, Maryland and Oregon, operate Communication Facilitator (CF) services, funded from their intrastate Relay Fund, which provide equal access to telecommunications to residents who are deafblind via in-person skilled signers so that these people who are deafblind can participate in video conversations.

55. These additional programs highlight how states utilize their intrastate TRS funds for equipment distribution programs and specialized services to address specific community needs. The Commission seeks comment on whether there are other types of programs or communication services, beyond those already identified, that states are considering or funding through their intrastate TRS programs to support their residents with hearing and speech disabilities. If states do not end up supporting the internet-based forms of TRS, what is the optimal role for state relay programs and their intrastate TRS funds? The Commission also invites comments on how the Commission can support state-specific initiatives and ensure a cohesive, efficient nationwide TRS framework as technology and user needs continue to evolve.

56. To ensure the continued availability of TRS to those users who may still be served by analog telephone facilities, the Commission seeks comment on whether to establish a temporary national certification process for providers of TTY Relay and STS. Should a national certification process for TTY Relay and STS providers mirror the federal certification framework already in place for internet-based forms of TRS? The Commission believes such an approach would help ensure that the diminishing number of users still served by copper facilities are not left without recourse if the state chooses to discontinue the provision of TTY Relay or terminates its TRS program before all users in the state have access to internet-based forms of TRS. The Commission seeks comment on that belief. Are there other approaches the Commission should consider to ensure continued access to TRS services during network transitions? Should the Commission establish a sunset for the national certification process? What factors should the Commission consider in establishing a sunset? Should it be date specific or should the Commission rely on specific events occurring, such as no TTY Relay use over a one-year period? If the sunset should be dependent on specific events occurring, what events should the Commission consider?

57. Under this approach, grant of certification would allow the certified provider to provide TRS in any state that ends its provision of TTY Relay or discontinues its TRS program. If more than one application for certification is received, the Commission seeks comment on whether the Commission should grant a national certification to a single applicant or multiple applicants. If the Commission grants a certification to only one entity, what factors should the Commission consider in granting that certification? What weight should it assign the various factors? How should service continuity be ensured in states where current contracts expire or are terminated, and what coordination mechanisms would be necessary between state agencies and the national provider(s)? Alternatively, should the Commission manage the underlying 8XX telephone number associated with 711 in each state? What steps would the Commission need to take to be able to obtain, hold, and assign the relevant, underlying 8XX telephone number(s) for TTY Relay within a state? If the Commission approved multiple national providers, would the Commission be able to maintain the 711 calling structures? Could consumers be afforded the opportunity to choose a provider when dialing 711? What are the costs and benefits of establishing national certification for TTY Relay? For STS? Would adopting such a national certification process allow the Commission to lift the mandatory status for STS, allowing states to transition away from analog forms of TRS without surrendering the certification for their entire TRS program?

58. The Commission also seeks comment on whether to require any nationally certified analog relay provider(s) to provide CTS in addition to TTY Relay and STS. Would requiring the provision of all three forms of analog relay service better ensure that intrastate and interstate TRS are available nationwide to the extent possible, and in the most efficient manner?

59. The Commission proposes that the nationally certified relay provider(s) be compensated from the Interstate TRS Fund, where it is providing service in a state that has discontinued its TRS program or does not support the provided forms of TRS. This approach aligns with the established funding mechanism for IP Relay, VRS, and IP CTS, which are entirely supported through TRS Fund contributions based on interstate and intrastate revenue. The Commission seeks comment on this proposal. The Commission also invites comment on how the jurisdictional separation of costs between intrastate and interstate funds would work in practice, where the TRS Fund would reimburse the nationally certified provider for both its intrastate and interstate minutes of TRS, and state-contracted providers for only their interstate minutes. Would such a change unduly burden the calculation of the relevant contribution factor? The Commission also seeks comment on the potential costs and benefits of such a funding model on both the TRS Fund and state-administered funds.

60. While internet-based TRS users are subject to various registration and verification requirements, analog TRS, such as TTY Relay, CTS, and STS, currently lack comparable mandated user registration and centralized verification processes. To further strengthen the integrity and oversight of the entire TRS program and build upon the recognized benefits of a user registration database, the Commission proposes to extend comprehensive user registration and verification requirements to all forms of TRS, including these analog services and any future internet-based forms of TRS. This expansion is crucial to ensuring that all services supported by the TRS Fund operate with enhanced accountability and to combat waste, fraud, and abuse program-wide. Such a measure would allow the Commission to gather complete and accurate data on service demand and utilization across the entire TRS landscape. The Commission seeks comprehensive comment on the feasibility, costs, and benefits of extending user registration and verification requirements to all forms of TRS. Commenters should detail any unique technical or operational challenges for specific services (e.g., TTY Relay, STS, CTS, or IP Relay, or proposed IP STS and RTT-based relay service), and identify the specific types of data that would be most relevant and least burdensome for the providers to collect and submit. The Commission also seeks comment on the burdens this would impose on users of each service and the providers of each service? Have registration requirements impeded user access or caused any users not to sign up? What privacy concerns arise with collecting such data and what methods are available to mitigate such concerns? The Commission also solicits input on how current user registration data elements might apply or need modification for these services, and the timeframe for implementation.

61. In the alternative, the Commission seek comment on codifying and extending the current IP Relay registration requirements to analog TRS and the proposed services of IP STS and RTT-based relay service. Specifically, the Commission seeks comment on codifying a “reasonable means of verifying” and “consumer education and outreach efforts” requirements into the Commission's general TRS user registration and verification rules. This would explicitly require providers to implement a reasonable and not unduly burdensome means of verifying user registration and eligibility, alongside consumer education and outreach efforts on the importance of accurate registration. The Commission seeks comment on the appropriateness, feasibility, and potential impact of codifying these specific requirements, including the costs and benefits of applying them uniformly IP Relay, TTY Relay, STS, CTS, and the proposed IP STS and RTT-based relay service.

62. The Commission also seeks comment and supporting data on the various ways individuals currently sign up for service, such as through an in-person representative, a remote conversation with a CA, or a purely electronic application with no human interaction. Should the Commission codify one or more of these proven methods, conducting in-person or on-camera ID checks, as a safe harbor for identification verification? The Commission invites commenters to provide specific data on the efficacy, costs, and benefits associated with different sign-up and verification methods, including the rate of successful verification and user experience. The Commission also invites comments on the safe harbor method for identification verification and whether another method would be more effective as a safe harbor.

63. TRS providers seeking compensation from the TRS Fund must submit Call Detail Records (CDRs) to the TRS Fund administrator for each call for which compensation is sought. The data submission requirements are designed to ensure effective oversight, fund administration, and accountability, and to help enable the determination of a TRS Fund budget for each service, as well as the determination of provider compensation rates.

64. To further enhance the integrity and ensure consistent oversight across the entire TRS program, the Commission proposes that all TRS providers, including those offering traditional analog services as well as any future forms of TRS, such as IP STS and RTT-based relay service, submit comprehensive CDRs to the TRS Fund administrator for intrastate and interstate TRS calls and minutes, whether or not providers are currently compensated for those minutes from the TRS Fund. This measure would strengthen the Commission's ability to combat waste, fraud, and abuse, ensuring that all services supported by the TRS Fund operate with enhanced accountability. The Commission seeks comment on the feasibility, costs, and benefits of clarifying that all TRS providers must meet these CDR requirements, detailing any unique technical or operational challenges for specific services that receive compensation from state TRS programs. Commenters should address the specific types of data that would be most relevant and least burdensome for analog services to collect and submit, how the current CDR data elements (e.g., minutes of use, unique identifiers, speed of answer) might apply or need modification for these services, and the timeframe for implementation.

65. To help the Commission evaluate the efficacy and appropriateness of our existing regulatory frameworks, the Commission also seeks comment on whether any of the current CDR requirements can be modified or eliminated to reduce administrative burden on providers and the TRS Fund administrator, without compromising program integrity or the Commission's oversight capabilities. Commenters should identify specific CDR elements that they believe are redundant, obsolete, or impose an unduly burdensome collection effort, and propose alternative data points or methodologies that could achieve the same regulatory objectives more efficiently. Are some categories of call data inapplicable or unnecessary for certain types of TRS? Are there additional categories of call data that should be collected for certain types of TRS? The Commission also seeks comment on whether the current granularity of detail required for specific call types, such as integrated VRS in video conferences, is appropriate, or if a more streamlined approach could be adopted.

Updating or Deleting Obsolete or Unnecessary Rules

66. As part of the Commission's effort to modernize the TRS program, the Commission proposes to update the TRS rules by deleting or modifying regulations that are obsolete or otherwise burdensome and unnecessary. The Commission seeks comment on these proposals and the questions, beliefs, and assumptions stated below.

67. Section 64.604(a)(1)(i) of the Commission's rules places a requirement on TRS providers to ensure “all CAs be sufficiently trained to effectively meet the specialized communications needs of individuals with hearing and speech disabilities.” To meet this requirement, many TRS providers maintain their own dedicated CA training programs. While provider maintained training programs are a useful and effective mechanism for ensuring CAs are sufficiently trained, the Commission believes there are other ways TRS providers can ensure their CAs effectively meet the specialized communications needs of people with hearing and speech disabilities. For example, providers may be able to establish that their CAs meet this requirement through evidence of third-party certifications and degrees, independent courses, and other life experience that demonstrate a CA has the required competencies to effectively meet the needs of TRS users. Accordingly, the Commission proposes to delete the phrase “be sufficiently trained to,” giving providers more flexibility to ensure CAs effectively meet the specialized communications needs of individuals with hearing and speech disabilities. The Commission seeks comment on this proposal and belief.

68. Section 64.604(a)(1)(vi) of the Commission's rules requires TRS providers to “make best efforts to accommodate a TRS user's requested CA gender when a call is initiated and, if a transfer occurs, at the time the call is transferred to another CA.” The Commission proposes to delete this rule. The Commission encourages TRS providers to accommodate such requests, as fulfilling such requests may provide a more natural call experience and reduce the number of abandoned TRS calls. However, “best efforts” obligations are inherently difficult to enforce. Further, the Commission believes TRS providers have a built-in financial incentive to attempt to fulfill user preferences to avoid that user changing to another provider or from the user disconnecting and reconnecting to attempt to find a CA with specific attributes.

69. Section 64.604(a)(3)(iii) of the Commission's rules allows TRS providers to decline to complete a call because credit authorization is denied. The Commission proposes to delete this rule, as the Commission does not believe credit authorization is currently an issue for TRS calls. In the last five years, have TRS providers ever declined to complete a call because credit authorization is denied? If so, what is the frequency of such occurrences? What is the cost to a provider to complete a call where credit authorization is denied?

70. Section 64.604(a)(3)(iv) of the Commission's rules requires analog TRS (TTY Relay, STS, and CTS) to be capable of handling pay-per-call calls. The Commission proposes to delete this rule. The Commission believes the use of pay-per-call (900) calls is no longer sufficiently prevalent in the United States to warrant an explicit rule requiring TRS providers to support that type of call. The Commission also notes that, with or without a specific pay-per-call provision, TRS providers remain subject to the general requirement that they “be capable of handling any type of call normally provided by telecommunications carriers unless the Commission determines that it is not technologically feasible to do so.” Is it still technologically feasible to complete 900 number calls using analog TRS? What are the costs and benefits of retaining a specific requirement, given that the general types-of-call provision would still require pay-per-call calls to be handled if “normally provided” and technologically feasible?

71. Section 64.604(a)(3)(v) of the Commission's rules requires TRS providers to provide specific types of TRS calls, such as text-to-voice and voice-to-text, one-line voice carry over (VCO), two-line VCO, VCO-to-TTY, and VCO-to-VCO, one-line hearing carry over (HCO), two-line HCO, HCO-to-TTY, and HCO-to-HCO. The rule also exempts internet-based TRS providers from some of these requirements. The Commission seeks comment on whether updates to this provision are needed. Are there types of TRS calls or functionality that should be added to or deleted from the list?

72. Section 64.604(b)(2)(ii)(E) of the Commission's rules requires a local exchange carrier (LEC), “upon request,” to “provide the call attempt rates and the rates of calls blocked between the LEC and the TRS facility to relay administrators and TRS providers.” The Commission proposes to delete this requirement. When the Commission adopted this requirement it also required TRS relay centers to be designed to a P.01 standard, a network design standard used to ensure that no more than one percent of calls at the busiest hour of the day are unable to be delivered to the relay network due to inadequate facilities. In combination with the speed of answer requirement, the Commission could ensure that placing a call using TTY Relay was functionally equivalent to hearing user placing a voice call. The Commission believes that in meeting these network design standards and measuring a TRS's providers speed of answer, it is no longer necessary to maintain an explicit rule for a LEC that serves the TRS center to provide call attempt rates and the rates of blocked calls between the LEC and the relay center upon the request of relay administrators and TRS providers. The Commission seeks comment on this belief.

73. Section 64.604(b)(4)(i) of the Commission's rules incorporates the statutory requirement that relay services must “operate every day, 24 hours a day.” However, the rule exempts relay services (other than VRS) from this requirement, if they “are not mandated by this Commission.” As a result, TTY Relay and STS, as “mandatory” services, are required to operate 24/7, as is VRS, while other “non-mandatory” services—IP Relay, IP CTS, and analog CTS—are exempt from this requirement. While such differential application of the 24/7 requirement may have been justified on an interim basis, when the exempt services were still in the experimental stage, the Commission does not believe that the exemption reflects the current operating practices of the providers of non-mandated relay service. Further, the Commission does not believe that the exemption aligns with users' current expectations regarding these relay services. Therefore, the Commission proposes to delete this language and require all forms of TRS to operate every day, 24 hours a day. Adopting this change would bring this rule into alignment with the statutory requirement that TRS operate every day for 24 hours per day. Are there any current forms of TRS, or variants thereof, for which 24/7 operation would be economically burdensome without increased TRS Fund support? What would be the costs and benefits of continuing to exempt such services?

74. Section 64.604(b)(5) of the Commission's rules states that “[n]o regulation set forth in this subpart is intended to discourage or impair the development of improved technology that fosters the availability of telecommunications to person with disabilities.” In addition, § 64.604(b)(5) of the Commission's rules explicitly permits TRS facilities to “use SS7 technology or any other type of similar technology to enhance the functional equivalency and quality of TRS” and provides that facilities that use SS7 technology are subject to the Calling Party Telephone Number rules. The Commission proposes to delete this provision in its entirety. The statement that the TRS regulations “are not intended to discourage or impair the development of improved technology” refers to the statutory directive to the Commission to “ensure that regulations prescribed to implement this section encourage, consistent with section 157(a) of this title, the use of existing technology and do not discourage or impair the development of improved technology.” This statutory directive applies regardless of any disclaimer in the Commission's rules. Thus, it appears that the disclaimer in the Commission's rules serves no purpose. As for the statements regarding SS7 technology, they too appear to be mere surplusage. Without this language, the Commission believes such technology would still be permitted for use and that the Calling Telephone Number rules would continue to apply where SS7 is used. As such, retention of this provision appears unnecessary.

Closing CG Docket No. 08-15

75. The Commission seeks comment on closing CG Docket No. 08-15, Speech-to-Speech and internet Protocol (IP) Speech-to-Speech Telecommunications Relay Services. This docket has been inactive for at least a decade. Furthermore, the Commission conducted proceedings in this docket in parallel with CG Docket No. 03-123. In seeking to develop a fresh record on STS, IP STS, and video-assisted STS, the Commission does not see a need to maintain a separate duplicative record, and the Commission believes closing the docket eliminates a duplicative filing requirement that unnecessarily burden commenters. The Commission seeks comment on this belief. The only comments that should be filed in CG Docket No. 08-15 should be those comments raising concerns with closing CG Docket No. 08-15. Comments on all other matters in this proceeding should be filed in CG Docket No. 03-123.

Initial Regulatory Flexibility Analysis

76. As required by the Regulatory Flexibility Act of 1980, as amended (RFA), the Commission has prepared this Initial Regulatory Flexibility Analysis (IRFA) of the policies and rules proposed in the NPRM assessing the possible significant economic impact on a substantial number of small entities. The Commission requests written public comments on this IRFA. Comments must be identified as responses to the IRFA and must be filed by the deadlines for comments specified in the item.

77. Need for, and Objectives of, the Proposed Rules. In the NPRM, the Commission proposes to phase out mandatory support for TTY Relay, permit state TRS programs more flexibility to manage their programs, facilitate the transition from outdated analog forms of TRS to internet-based forms of TRS and other accessible forms of modern communications, streamline eligibility, registration, verification, and data collection requirements, and update or delete obsolete rules. As communications technologies have evolved, analog TRS have seen declining or minimal usage. The Commission proposes these changes to align TRS with modern communications landscape and improve access and service for users of relay service in order to meet its statutory obligation to ensure that TRS are available, “to the extent possible and in the most efficient manner,” to individuals with hearing or speech disabilities in the United States. The Commission also seeks to ensure that all forms of TRS are used appropriately and efficiently, and to safeguard the TRS Fund from waste, fraud, and abuse.

78. Legal Basis. The proposed action is authorized pursuant to sections 1, 2, 4(i), (4)(j), and 225 of the Act.

79. Description and Estimate of the Number of Small Entities Impacted. The rules proposed in the NPRM will apply to small entities in the All Other Telecommunications industries. The Commission estimates that the majority of “All Other Telecommunications” firms can be considered small.

80. Description of Projected Reporting, Recordkeeping, and Other Compliance Requirements. The changes proposed in the NPRM, if adopted, could impose new or modified reporting, recordkeeping, or other compliance obligations on certain small entities that provide TTY Relay, STS, CTS, or seek to provide IP STS or RTT-based relay service. The Commission proposes to make clear the applicability of its call data collection requirements to all forms of TRS to help the TRS Fund administrator verify the validity of submitted minutes of use and seeks comments on any modifications to the call data requirements to ensure collection of appropriate data for each service and avoid unnecessarily burdening small entities. The Commission also seeks comment on streamlining and unifying the applicability of user eligibility, registration, and verification rules to safeguard the TRS program. This could include the collection and verification of user identity and location information, as well as, eligibility certifications. The Commission seeks comment on the specific process that should be utilized for each form of TRS, including the type of documentation or assessment required to confirm eligibility, and how to balance ease of access for legitimate users with robust protections against misuse. The information the Commission receives in comments will help the Commission identify and evaluate relevant compliance matters, costs, and other burdens for small entities that may result from the proposals and inquiries made in the NPRM.

81. Significant Alternatives Considered That Minimize the Significant Economic Impact on Small Entities. The proposed changes to the Commission's TRS rules are designed to align the Commission's TRS program and state TRS programs with modern communications services and better serve the needs of relay users. The Commission seeks to alleviate the burden to state TRS programs and analog TRS providers to continue to support and maintain outdated forms of TRS that are becoming more difficult to provide and support over IP-based communication networks. To facilitate this process, while minimizing the economic impact to small entities, the Commission inquiries on an appropriate process for transitioning analog TRS users, plans and timelines for changes to state TRS program, maintaining support for analog forms of TRS during the transition period, introducing comparable, modern forms of TRS, and aligning and right sizing requirements for registering and verifying TRS users and collecting call detail records. The item also inquiries about reducing burdens through updating or deleting obsolete or unnecessarily burdensome rules.

82. The NPRM, seeks comment from all interested parties, particularly those of small business entities. Small entities are encouraged to bring to the Commission's attention any specific concerns they may have with the proposals outlined in document FCC 25-79 and outline any suggested alternatives. The Commission expects to consider the economic impact on small entities, as identified in comments filed in response to document FCC 25-79, in reaching its final conclusions and taking action in this proceeding.

83. Federal Rules that May Duplicate, Overlap, or Conflict with the Proposed Rules. None.

List of Subjects in 47 CFR Part 64

Communications, Communications common carriers, Communications equipment, Individuals with disabilities, Telecommunications.

Federal Communications Commission.
Marlene Dortch,
Secretary, Office of the Secretary.

Proposed Rules

For the reasons discussed in the preamble, the Federal Communications Commission proposes to amend 47 CFR part 64 as follows:

PART 64—MISCELLANEOUS RULES RELATING TO COMMON CARRIERS

1. The authority for part 64 continues to read as follows:

Authority: 47 U.S.C. 151, 152, 154, 201, 202, 217, 218, 220, 222, 225, 226, 227, 227b, 228, 251(a), 251(e), 254(k), 255, 262, 276, 403(b)(2)(B), (c), 616, 620, 716, 1401-1473, unless otherwise noted; Pub. L. 115-141, Div. P, sec. 503, 132 Stat. 348, 1091; Pub. L. 117-338, 136 Stat. 6156.

2. Amend § 64.604 by:

a. Revising paragraph (a)(1)(i);

b. Removing and reserving paragraphs (a)(1)(vi), (a)(3)(iii) and (iv), and (b)(2)(ii)(E);

c. Revising paragraph (b)(4)(i); and

d. Removing and reserving paragraph (b)(5).

The revisions read as follows:

§ 64.604 Mandatory minimum standards.

* * * * *

(a) * * *

(1) * * *

(i) TRS providers are responsible for requiring that all CAs effectively meet the specialized communications needs of individuals with hearing and speech disabilities.

* * * * *

(vi) [Reserved]

* * * * *

(3) * * *

(iii) [Reserved]

(iv) [Reserved]

* * * * *

(b) * * *

(2) * * *

(ii) * * *

(E) [Reserved]

* * * * *

(4) * * *

(i) TRS shall operate every day, 24 hours a day.

* * * * *

(5) [Reserved]

* * * * *

[FR Doc. 2025-24210 Filed 12-31-25; 8:45 am]

BILLING CODE 6712-01-P